DEPARTMENT OF THE INTERIOR

Bureau of Land Management

[LLCAN00000.L18200000.XZ0000]

Notice of Public Meeting: Joint Session of Northeast California Resource Advisory Council and Northwest California Resource Advisory Council, and Individual Meetings

AGENCY: Bureau of Land Management, Interior.

ACTION: Notice of public meetings.

SUMMARY: In accordance with the Federal Land Policy and Management Act of 1976 (FLPMA), and the Federal Advisory Committee Act of 1972 (FACA), the U. S. Department of the Interior, Bureau of Land Management (BLM) Northeast California Resource Advisory Council and Northwest California Resource Advisory Council will meet jointly and individually, as indicated below.

DATES: The committees will meet jointly and individual sessions. On Wednesday, Feb. 8, 2012, the Northeast California RAC will meet from 1 to 5 p.m. Public comments will be accepted at 4 p.m. On Thursday, Feb. 9, 2012, the Northeast California RAC and Northwest California RAC will convene at 8 a.m. for a field tour of public lands managed by the BLM. The councils will convene a joint business meeting at 1 p.m. and accept public comments at 4 p.m. On Friday, Feb. 10, 2012, the Northwest California RAC will convene at 8 a.m. Public comments will be accepted at 11 a.m. All meetings will be held in the Conference Center of the Oxford Suites Hotel, 1967 Hilltop Dr., Redding, California.

FOR FURTHER INFORMATION CONTACT: Nancy Haug, BLM Northern California District manager, (530) 224-2160; or Joseph J. Fontana, BLM public affairs officer, (530) 252-5332.

SUPPLEMENTARY INFORMATION: These councils advise the Secretary of the Interior, through the BLM, on a variety of planning and management issues associated with public land management in northern California and far northwest Nevada. Agenda items for the Northeast California RAC meeting include wild horse and burro management and wind energy development proposals. Agenda items for the joint session include habitat restoration partnerships, major BLM initiatives and future RAC work. Agenda items for the Northwest California RAC include the Walker Ridge wind energy project, wilderness management, forest management and the BLM's fee program and policies. The council will accept public comments at each meeting as indicated above. Depending on the number of persons wishing to speak, and the time available, the time for individual comments may be limited. Individuals who plan to attend and need special assistance, such as sign language interpretation and other reasonable accommodations, should contact the BLM as provided above.

Dated: December 9, 2011.
Joseph J. Fontana,
Public Affairs Officer.

[FR Doc. 2011-33394 Filed 12-28-11; 8:45 am]

BILLING CODE 4310-40-P